DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than December 5, 2019.

Interested persons are invited to submit written comments regarding the subject matter of the investigations to the Administrator, Office of Trade Adjustment Assistance, at the address shown below, not later than December 5, 2019.

The petitions filed in this case are available for inspection at the Office of the Administrator, Office of Trade Adjustment Assistance, Employment and Training Administration, U.S. Department of Labor, Room N-5428, 200 Constitution Avenue NW, Washington, DC 20210.

Signed at Washington, DC this 7th day of November 2019.
Hope D. Kinglock,
Certifying Officer, Office of Trade Adjustment Assistance.

APPENDIX

106 TAA Petitions Instituted Between 10/1/19 and 10/31/19

TA-W | Subject firm (petitioners) | Location | Date of institution | Date of petition
95235 | AVX US Microtek Filters Corporation (State/One-Stop) | Sun Valley, CA | 10/01/19 | 09/30/19
95236 | Faurecia Automotive Seating (Company) | Cleveland, MS | 10/01/19 | 09/30/19
95237 | John Deere (State/One-Stop) | Coffeyville, KS | 10/01/19 | 09/30/19
95238 | Thryv, Inc. (Workers) | St. Petersburg, FL | 10/01/19 | 09/30/19
95239 | Tire Tread Development, Inc. (State/One-Stop) | Mogadore, OH | 10/01/19 | 09/30/19
95240 | Workforce Logiq (State/One-Stop) | Dallas, TX | 10/01/19 | 09/30/19
95241 | Bayou Steel Group (State/One-Stop) | LaPlace, LA | 10/02/19 | 10/01/19
95242 | Teva Pharmaceuticals USA, Inc. (Company) | Mexico, MO | 10/02/19 | 10/01/19
95243 | Wholesome Harvest Baking LLC and Bimbo (State/One-Stop) | Richmond, CA | 10/02/19 | 10/01/19
95244 | Wholesome Harvest Baking LLC Group Bimbo (Union) | Richmond, CA | 10/02/19 | 10/01/19
95245 | ABB Inc. (Union) | Lewisburg, WV | 10/03/19 | 10/01/19
95246 | Cochlear Americas (State/One-Stop) | Centennial, CO | 10/03/19 | 10/02/19
95247 | Gannett Satellite Information (State/One-Stop) | Palm Springs, CA | 10/03/19 | 10/02/19
95248 | L&P Materials Manufacturing, Inc. (Company) | Jacksonville, FL | 10/03/19 | 10/02/19
95249 | Plains Marketing (State/One-Stop) | Yankton, SD | 10/03/19 | 10/03/19
95250 | Dagoba Organic Chocolate (The Hershey Company) (State/One-Stop) | Ashland, OR | 10/04/19 | 10/03/19
95251 | Daimler Trucks North America (Union) | Cleveland, NC | 10/04/19 | 10/02/19
95252 | USF Reddaway Inc. (State/One-Stop) | Tualatin, OR | 10/04/19 | 10/03/19
95253 | Rohr, Inc. (State/One-Stop) | Chula Vista, CA | 10/04/19 | 10/03/19
95254 | Daimler Trucks North America (Union) | Mt. Holly, NC | 10/07/19 | 10/03/19
95255 | Everett Charles Technologies, LLC (COHU) (Workers) | Fontana, CA | 10/07/19 | 10/04/19
95256 | Johnson Controls-TYCO (State/One-Stop) | Indianapolis, IN | 10/07/19 | 10/04/19
95257 | Philips Healthcare (State/One-Stop) | Pewaukee, WI | 10/07/19 | 10/04/19
95258 | Lufkin Industries a Baker Hughes Company (State/One-Stop) | Lufkin, TX | 10/07/19 | 10/04/19
95259 | Norcraft Companies L.P. (State/One-Stop) | Lynchburg, VA | 10/07/19 | 10/04/19
95260 | Sims Metal Management (State/One-Stop) | Providence, RI | 10/08/19 | 10/07/19
95261 | CCU Coal and Construction, LLC (State/One-Stop) | Coshocton, OH | 10/09/19 | 10/08/19
95262 | E. Roko Distributions, Inc. (State/One-Stop) | Kent, WA | 10/09/19 | 10/04/19
95263 | Nokia of America Corporation (State/One-Stop) | Coppell, TX | 10/09/19 | 10/08/19
95264 | Ocwen Financial Corporation (State/One-Stop) | Addison, TX | 10/09/19 | 10/08/19
95265 | United States Steel Corporation (State/One-Stop) | East Chicago, IN | 10/09/19 | 10/08/19
95266 | Wolverine Advanced Materials (State/One-Stop) | Blacksburg, VA | 10/09/19 | 10/08/19
95267 | Calaway Trading Inc. (State/One-Stop) | Saint Helens, OR | 10/10/19 | 10/10/19
95268 | Carlisle Interconnect Technologies-Tristar Technologies (Company) | El Segundo, CA | 10/10/19 | 10/08/19
95269 | Cleaver-Brooks (State/One-Stop) | Lincoln, NE | 10/10/19 | 10/09/19
95270 | Emerald Mississippi LLC (Company) | New Albany, MS | 10/10/19 | 10/09/19
95271 | EnerVest Employee Services, LLC (State/One-Stop) | Clintwood, VA | 10/10/19 | 10/10/19
95272 | Molex (State/One-Stop) | Lincoln, NE | 10/10/19 | 10/09/19
95273 | Nestle USA (State/One-Stop) | Aberdeen, SD | 10/10/19 | 10/09/19
95274 | Cobham Communications and Connectivity (Workers) | Lewisville, TX | 10/11/19 | 10/10/19
95275 | Nestle USA, Inc. (State/One-Stop) | Brooklyn Park, MN | 10/11/19 | 10/10/19
95276 | Siltronic Corporation (State/One-Stop) | Portland, OR | 10/11/19 | 10/10/19
95277 | Simmons Bedding Company (State/One-Stop) | Fredericksburg, VA | 10/11/19 | 10/10/19
95278 | Transim Technology (State/One-Stop) | Portland, OR | 10/11/19 | 10/10/19
95279 | Cisco System Inc. (State/One-Stop) | Lawrenceville, GA | 10/15/19 | 10/08/19
95280 | Haldex Brake Products Corporation (State/One-Stop) | Kansas City, MO | 10/15/19 | 10/11/19
95281 | John Deere Davenport Works (State/One-Stop) | Davenport, IA | 10/15/19 | 10/11/19
95282 | Joyson Safety Systems (State/One-Stop) | Knoxville, TN | 10/15/19 | 10/11/19
95283 | Bayou Steel Group (State/One-Stop) | Harriman, TN | 10/16/19 | 10/15/19
95284 | Carlisle Internconnect Technologies-Tri Star Technologies (Company) | Riverside, CA | 10/16/19 | 10/15/19
95285 | Dee Incorporated (State/One-Stop) | Crookston, MN | 10/16/19 | 10/15/19
95286 | Nestle USA (State/One-Stop) | North Little Rock, AR | 10/16/19 | 10/15/19
95287 | Newell Brands (State/One-Stop) | South Deerfield, MA | 10/16/19 | 10/11/19
95288 | Hand Held Products—Subsidiary of Honeywell (State/One-Stop) | Cedar Rapids, IA | 10/17/19 | 10/16/19
95289 | Hydro Extrusion North America, LLC (State/One-Stop) | Kalamazoo, MI | 10/17/19 | 10/16/19
95290 | Aprima Medical Software (Workers) | Richardson, TX | 10/18/19 | 10/17/19
95291 | Caterpillar (State/One-Stop) | Peoria, IL | 10/18/19 | 10/15/19
95292 | Citibank (State/One-Stop) | Kansas City, MO | 10/18/19 | 10/17/19
95293 | Conduent Commercial Solutions, LLC (State/One-Stop) | Boca Raton, FL | 10/18/19 | 10/17/19
95294 | Gardner Denver (State/One-Stop) | Altoona, PA | 10/18/19 | 10/17/19
95295 | Ignite Holdings, LLC (State/One-Stop) | Winchester, VA | 10/18/19 | 10/17/19
95296 | Leadec (State/One-Stop) | Warren, OH | 10/18/19 | 10/17/19
95297 | Providence St. Joseph Health (State/One-Stop) | Portland, OR | 10/18/19 | 10/17/19
95298 | Smith & Nephew (State/One-Stop) | Plymouth, MN | 10/18/19 | 10/17/19
95299 | Vistra Energy Corporation (Workers) | Havana, IL | 10/18/19 | 10/17/19
95300 | VML Inc. (State/One-Stop) | Kansas City, MO | 10/18/19 | 10/17/19
95301 | Ball Metalpack Company (State/One-Stop) | Springdale, AR | 10/21/19 | 10/18/19
95302 | Interlake Mecalux (State/One-Stop) | Melrose Park, IL | 10/21/19 | 10/18/19
95303 | JPMorgan Chase Bank, NA (Workers) | Neenah, WI | 10/21/19 | 10/20/19
95304 | Northwest Hardwoods Inc. (State/One-Stop) | Front Royal, VA | 10/21/19 | 10/18/19
95305 | Remington Arms Company, Inc. (State/One-Stop) | Ilion, NY | 10/21/19 | 10/18/19
95306 | CenturyLink (State/One-Stop) | Minneapolis, MN | 10/22/19 | 10/21/19
95307 | Fred's—Retail Location East Dublin, GA (Workers) | East Dublin, GA | 10/22/19 | 10/18/19
95308 | Hewlett Packard (State/One-Stop) | Andover, MA | 10/22/19 | 10/21/19
95309 | Kolber-Pioneer Inc. (KPI) (Astec) (State/One-Stop) | Yankton, SD | 10/22/19 | 10/21/19
95310 | Shawnee Tubing Industries (State/One-Stop) | Shawnee, OK | 10/22/19 | 10/22/19
95311 | Tata Consulting Solutions (for Microsoft) (State/One-Stop) | Bellevue, WA | 10/22/19 | 10/18/19
95312 | US Synthetic (State/One-Stop) | Orem, UT | 10/22/19 | 10/21/19
95313 | Del Monte Foods (State/One-Stop) | Sleepy Eye, MN | 10/23/19 | 10/22/19
95314 | GDI Integrated Facility Service onsite-leased worker through Harley Davidson (State/One-Stop) | Kansas City, MO | 10/23/19 | 10/22/19
95315 | IEEE (State/One-Stop) | Piscataway, NJ | 10/23/19 | 10/22/19
95316 | Integra (State/One-Stop) | York, PA | 10/23/19 | 10/22/19
95317 | Lootcrate (State/One-Stop) | Vernon, CA | 10/23/19 | 10/22/19
95318 | Syncreon on-site leased worker through Harley-Davidson (State/One-Stop) | Kansas City, MO | 10/23/19 | 10/22/19
95319 | Kelly Services on-site leased workers through Harley-Davidson (State/One-Stop) | Kansas City, MO | 10/24/19 | 10/23/19
95320 | Loot Crate Inc. (State/One-Stop) | Lock Haven, PA | 10/24/19 | 10/23/19
95321 | Merit Gear LLC (Workers) | Antigo, WI | 10/24/19 | 10/23/19
95322 | Pacific Recycling Inc. (State/One-Stop) | Eugene, OR | 10/24/19 | 10/23/19
95323 | Prologistics on-site leased workers through Harley-Davidson (State/One-Stop) | Kansas City, MO | 10/24/19 | 10/23/19
95324 | Citigroup (Workers) | Gray, TN | 10/25/19 | 10/24/19
95325 | HWI Environmental Technologies, Inc. (State/One-Stop) | St. Louis, MO | 10/25/19 | 10/24/19
95326 | Jaguar Land Rover North America, LLC (State/One-Stop) | Mahwah, NJ | 10/25/19 | 10/24/19
95327 | Dreyer's Ice Cream (State/One-Stop) | Eugene, OR | 10/25/19 | 10/24/19
95328 | The Yankee Candle Company, owned by Newell Brands (Newell Operating Co.) (State/One-Stop) | South Deerfield, MA | 10/25/19 | 10/24/19
95329 | General Motors Renaissance Center (State/One-Stop) | Detroit, MI | 10/28/19 | 10/25/19
95330 | Tallie, Inc, dba Springahead, Inc, dba Certify Inc. (Workers) | Walnut Creek, CA | 10/28/19 | 10/27/19
95331 | Tenneco (Fna Federal-Mogul) (State/One-Stop) | Lake City, MN | 10/28/19 | 10/25/19
95332 | Barber Steel Foundry (State/One-Stop) | Rothbury, MI | 10/29/19 | 10/28/19
95333 | Cameron International (State/One-Stop) | Ville Platte, LA | 10/29/19 | 10/28/19
95334 | Investors Bank (State/One-Stop) | Iselin, NJ | 10/29/19 | 10/28/19
95335 | Omron Automotives Electronics (Workers) | Saint Charles, IL | 10/29/19 | 10/28/19
95336 | Appvion d.b.a Roaring Spring Pulp and Paper Mill (State/One-Stop) | Roaring Spring, PA | 10/30/19 | 10/29/19
95337 | Baker Corporation (State/One-Stop) | Seal Beach, CA | 10/30/19 | 10/29/19
95338 | Refinitive (State/One-Stop) | Eagan, MN | 10/30/19 | 10/29/19
95339 | Tower International, Inc. (State/One-Stop) | Livonia, MI | 10/30/19 | 10/29/19
95340 | Realogy (State/One-Stop) | Danbury, CT | 10/31/19 | 10/30/19

[FR Doc. 2019-25492 Filed 11-22-19; 8:45 am]

BILLING CODE 4510-FN-P